DEPARTMENT OF AGRICULTURE

Forest Service

Draft Tropic to Hatch 138 kV Transmission Line Project Environmental Impact Statement and Draft Grand Staircase-Escalante National Monument Management Plan Amendment

AGENCY: Forest Service, USDA; Bureau of Land Management, USDI and National Park Service, USDI.

ACTION: Notice of availability.

SUMMARY: In accordance with the National Environmental Policy Act of 1969, as amended, and the Federal Land Policy and Management Act of 1976, as amended, the Forest Service (FS), with the Bureau of Land Management (BLM) and National Park Service (NPS) as cooperating agencies, has prepared a Draft Environmental Impact Statement (DEIS) for the Tropic to Hatch 138 kV Transmission Line Project and a Draft Resource Management Plan Amendment (DRMPA) for the Grand Staircase-Escalante National Monument and by this notice is announcing the opening of the comment period.

DATES: To ensure that comments will be considered, the FS must receive written comments on the DRMPA and DEIS within 90 days following the date the Environmental Protection Agency publishes this Notice of Availability in the Federal Register. The FS will announce future meetings or hearings and any other public involvement activities at least 15 days in advance through public notices, media releases, and/or mailings.

ADDRESSES: You may submit comments related to the Tropic-to-Hatch Transmission Line by any of the following methods:

• Web site: http://www.fs.fed.us/r4/dixie/projects/tropic2hatch/index.shtml.

• E-mail: tropic_to_hatch_transmission_line_EIS-comments@fs.fed.us (e-mail comments must be in MS Word [*.doc] or rich text format [*.rtf]).

• Fax: (435) 865-3791.

• Mail: Ms. Susan Baughman, Dixie National Forest, USDA Forest Service, Tropic to Hatch 138 kV Transmission Line Project, 1789 N. Wedgewood Lane, Cedar City, Utah 84721.

Copies of the Draft Garkane Energy Tropic to Hatch 138 kV Transmission Line and Draft Grand Staircase-Escalante National Monument Management Plan Amendment are available at the above address or at the following BLM offices: Grand Staircase-Escalante National Monument Headquarters, 190 E. Center Street, Kanab, UT; Kanab Field Office, 318 N 100 E, Kanab, UT; Utah State Office, 440 W 200 S, Salt Lake City, UT.

FOR FURTHER INFORMATION CONTACT: Ms. Susan Baughman, Dixie National Forest, USDA Forest Service, Tropic to Hatch 138 kV Transmission Line Project EIS Project Leader, 1789 N. Wedgewood Lane, Cedar City, Utah 84720 or; Drew Parkin, Grand Staircase-Escalante National Monument Project Coordinator, 190 E Center, Kanab, Utah 84741/phone (435) 826-5629.

SUPPLEMENTARY INFORMATION: The proposed 138 kV transmission line would originate at a proposed East Valley Substation, located near Tropic, Utah and terminate at the existing Hatch Substation near Hatch, Utah, along U.S. Route 89. There are four alternatives being considered, including interconnect options and identification of the Agency Preferred Alternative.

A plan amendment for the Grand Staircase/Escalante Monument Management Plan would be needed to implement Alternatives A or C because the proposal occurs in an area identified as a Primitive Management Zone and Visual Resource Management (VRM) Class II zone as described in the MMP. While the entire project involves lands administered by BLM, both the Kanab Field Office and GSENM, Dixie National Forest, Bryce Canyon National Park, and State and private lands, the resource management plan amendment area involves only a corridor on the Monument.

Issues that have been identified to date and are addressed in the DEIS include potential impacts to: Paleontological resources; soil resources; water resources; vegetation resources; wildlife resources; threatened, endangered and sensitive species; land uses; timber and rangeland resources; special designations (including Wilderness Study Areas, Non-WSA lands with wilderness character), recreation resources, visual resources, cultural resources, and socioeconomics.

Alternative A would extend 30.41 miles and cross 17.35 miles of United States Forest Service (USFS), 3.31 miles of Kanab Field Office (KFO), 3.68 miles of Grand Staircase Escalante National Monument (GSENM), 4.23 miles of State, and 1.84 miles of private lands. Approximately 16.23 miles of an existing 69 kV line would be removed. This alternative would amend the GSENM Management Plan (2000) by designating a 100-foot wide Passage Zone corridor through an area currently designated as Primitive Zone in the Management Plan, and to change the existing VRM Class designation from Class II to Class III within this corridor.

Alternative B would extend 29.11 miles and cross 5.58 miles of USFS, 8.29 miles of KFO, 2.81 miles of National Park Service (NPS), 3.63 miles of State, and 8.80 miles of private lands. Approximately 21.57 miles of an existing 69 kV line would be removed. This alternative requires the building of an additional substation in Bryce Valley.

Alternative C would extend 29.78 miles and cross 13.58 miles of USFS, 3.43 miles of KFO, 3.68 miles of GSENM, 2.06 miles of State, and 7.03 miles of private lands. Approximately 16.23 miles of an existing 69 kV line would be removed. This alternative would also amend the GSENM Management Plan (2000) by designating a 300-foot wide Passage Zone corridor through an area currently designated as Primitive Zone in the Management Plan, and to change the existing VRM Class designation from Class II to Class III within this corridor. The 300-foot Passage Zone corridor would encompass an existing Rocky Mountain Power/PacifiCorp 230 kV transmission line, and would allow for future upgrades if necessary.

Alternative D, the No Action Alternative is considered to be the continued operation of the existing 69 kV line and future circumstances that would occur without federal approval of Garkane Energy's proposal to construct and operate a 138 kV electric transmission line from Tropic to Hatch, Utah. Under the “no action” alternative, any or all of the federal agencies would decline to grant Garkane a right-of-way within the agency's respective jurisdiction.

Interconnect Route Options: The purpose of the interconnect route options is to provide flexibility to decision makers when selecting and approving a final alternative. The north-south interconnect option extends 1.84 miles across USFS and would connect a segment of Alternative A to a segment of Alternative C. The east-west interconnect option extends 3.70 miles across USFS and would connect a segment of Alternative C to a segment of Alternative A.

The Agency Preferred Alternative is Alternative C, but it incorporates components from the east-west interconnect option and Alternative A. The total length of the preferred route would be 29.41 miles. Approximately 16.23 miles of the existing 69 kV transmission line infrastructure would be removed. The Agency Preferred Alternative would also amend the GSENM Management Plan (2000) by designating a 300-foot wide Passage Zone corridor through an area currently designated as Primitive Zone in the Management Plan, and to change the existing VRM Class designation from Class II to Class III within this corridor.

Before including your address, phone number, e-mail address, or other personal identifying information in your comment, you should be aware that your entire comment—including your personal identifying information—may be made publicly available at any time. While you can ask us in your comment to withhold your personal identifying information from public review, we cannot guarantee that we will be able to do so.

(Authority: 42 U.S.C. 4321-4347, 40 CFR 1500-1508, and 36 CFR 220)

Dated: December 2, 2009.
Robert G. MacWhorter,
Forest Supervisor-Dixie National Forest.

[FR Doc. E9-29227 Filed 12-7-09; 8:45 am]

BILLING CODE 3410-11-P